DEPARTMENT OF TRANSPORTATION

Federal Aviation Administration

14 CFR Part 39

[Docket No. FAA-2007-28854; Directorate Identifier 2007-NM-109-AD; Amendment 39-15307; AD 2007-26-05]

RIN 2120-AA64

Airworthiness Directives; Boeing Model 777-200, -200LR, -300, and -300ER Series Airplanes

AGENCY: Federal Aviation Administration (FAA), Department of Transportation (DOT).

ACTION: Final rule.

SUMMARY: The FAA is adopting a new airworthiness directive (AD) for all Boeing Model 777-200, -200LR, -300, and -300ER series airplanes. This AD requires doing initial and repetitive inspections for cracking of the elevator actuator fittings, and replacing any cracked fitting with a new fitting. This AD results from a report that a cracked left elevator actuator fitting was found on a Model 777 airplane. We are issuing this AD to detect and correct a cracked actuator fitting, which could detach from the elevator and lead to an unrestrained elevator and an unacceptable flutter condition, which could result in loss of airplane control.

DATES: This AD becomes effective January 22, 2008.

The Director of the Federal Register approved the incorporation by reference of a certain publication listed in the AD as of January 22, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Gary Oltman, Aerospace Engineer, Airframe Branch, ANM-120S, FAA, Seattle Aircraft Certification Office, 1601 Lind Avenue, SW., Renton, Washington 98057-3356; telephone (425) 917-6443; fax (425) 917-6590.

SUPPLEMENTARY INFORMATION:

Discussion

The FAA issued a notice of proposed rulemaking (NPRM) to amend 14 CFR part 39 to include an AD that would apply to all Boeing Model 777-200, -200LR, -300, and -300ER series airplanes. That NPRM was published in the Federal Register on August 2, 2007 (72 FR 42326). That NPRM proposed to require doing initial and repetitive inspections for cracking of the elevator actuator fittings, and replacing any cracked fitting with a new fitting.

Comments

We provided the public the opportunity to participate in the development of this AD. We have considered the comments received.

Request To Revise Incorrect Wording

Two commenters, Boeing and Continental Airlines, request that we revise an incorrect word in the NPRM. The commenters state that, under the Relevant Service Information section of the NPRM, the third bulleted item, which reads, in part, “before the accumulation of 10,000 total flight cycles or within 12 months after the date on the service bulletin, whichever occurs first,” should actually read “* * * whichever occurs later.” The commenters request that we make this change so the NPRM will conform to the actual compliance time specified by Boeing Alert Service Bulletin 777-55A0015, dated April 19, 2007, which is cited as the appropriate source of service information for accomplishing the proposed requirements of the NPRM.

We partially agree with this request. We agree that the specified word “first” should be “later,” to conform to the service bulletin. However, the Relevant Service Information section of the NPRM is not carried forward in the final rule; therefore, it is not necessary to change the AD in this regard.

Conclusion

We have carefully reviewed the available data, including the comments received, and determined that air safety and the public interest require adopting the AD as proposed.

Costs of Compliance

There are about 619 airplanes of the affected design in the worldwide fleet. This AD affects about 138 airplanes of U.S. registry. The required inspections take about 4 work hours per airplane, per inspection cycle, at an average labor rate of $80 per work hour. Based on these figures, the estimated cost of the AD for U.S. operators is $44,160, or $320 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-26-05 Boeing: Amendment 39-15307. Docket No. FAA-2007-28854; Directorate Identifier 2007-NM-109-AD.

Effective Date

(a) This AD becomes effective January 22, 2008.

Affected ADs

(b) None.

Applicability

(c) This AD applies to all Boeing Model 777-200, -200LR, -300, and -300ER series airplanes, certificated in any category.

Unsafe Condition

(d) This AD results from a report that a cracked left elevator actuator fitting was found on a Model 777 airplane. We are issuing this AD to detect and correct a cracked actuator fitting, which could detach from the elevator and lead to an unrestrained elevator and an unacceptable flutter condition, which could result in loss of airplane control.

Compliance

(e) You are responsible for having the actions required by this AD performed within the compliance times specified, unless the actions have already been done.

Inspections

(f) At the applicable time specified in paragraph 1.E. “Compliance” of Boeing Alert Service Bulletin 777-55A0015, dated April 19, 2007, do an initial dye penetrant or high-frequency eddy current (HFEC) inspection for cracking of the elevator actuator fittings, and, thereafter, do repetitive dye penetrant, HFEC, or detailed inspections at the applicable times specified in paragraph 1.E. “Compliance.” Before further flight, replace any fitting found to be cracked during any inspection required by this AD with a new fitting having the same part number, or an optional part number as identified in the service bulletin. Thereafter, do initial and repetitive inspections of the replacement fitting as described in paragraph 1.E. of the service bulletin. Do all inspections and actions described in this paragraph in accordance with the Accomplishment Instructions of the service bulletin; except, where the service bulletin specifies a compliance time after the date on the service bulletin, this AD requires compliance within the specified compliance time after the effective date of this AD.

Alternative Methods of Compliance (AMOCs)

(g)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(h) You must use Boeing Alert Service Bulletin 777-55A0015, dated April 19, 2007, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on December 10, 2007.
Ali Bahrami,
Manager, Transport Airplane Directorate, Aircraft Certification Service.

[FR Doc. E7-24338 Filed 12-14-07; 8:45 am]

BILLING CODE 4910-13-P